NATIONAL SCIENCE FOUNDATION

Notice of Permit Modification Received Under the Antarctic Conservation Act of 1978

AGENCY: National Science Foundation.

ACTION: Notice of permit modification request.

SUMMARY: The National Science Foundation (NSF) is required to publish a notice of requests to modify permits issued to conduct activities regulated under the Antarctic Conservation Act of 1978. This is the required notice of a requested permit modification.

DATES: Interested parties are invited to submit written data, comments, or views with respect to this permit application by October 29, 2018. Permit applications may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Description of Permit Modification Requested: The Foundation issued a permit (ACA 2016-020) to Laura K.O. Smith, Owner, Operator Quixote Expeditions, on December 23, 2015. The issued permit allows the permit holder to conduct waste management activities associated with the operation of the “Ocean Tramp,” a reinforced ketch rigged sailing yacht in the Antarctic Peninsula region. Activities to be conducted by Quixote include: Passenger landings, hiking, photography, wildlife viewing, and possible station visits.

A recent modification to this permit, dated November 22, 2017, permitted coastal camping activities in select locations and resupply of fresh food to the Quixote Expeditions vessel as part of fly/cruise operations.

Now the permit holder proposes a modification to the permit to add a second vessel to support Quixote Expeditions activities, to conduct ship-to-ship fuel transfers, to release comminuted food waste (excepting poultry) at sea, and to operate a remotely piloted aircraft for educational and commercial purposes. In addition to the sailboat, Ocean Tramp, Quixote Expeditions would operate the motor vessel, Hans Hansson, in the Antarctic Peninsula region. The Hans Hansson would carry four or five crew members and up to 12 passengers. The vessel is capable of carrying up to 54,000 liters of diesel fuel in internal tanks; 500 liters of gasoline in a closed tank; four, 11 kg bottles of propane; and two liters of white gas in bottles. The permit holder proposes to conduct fuel transfers from the Hans Hansson to the Ocean Tramp, should it become necessary. Any such fuel transfers would follow precise fuel transfer procedures, with a shipboard oil pollution emergency plan kit readily available, and with no other concurrent activities happening. The permit holder proposes to release food waste, except poultry products, that has been reduced to small particles or ground into the sea at least 12 nautical miles from land. Quixote Expeditions would continue to hold all poultry waste, including eggs and eggshells, onboard for eventual disposal north of 60 degrees South or once in port outside Antarctica. The permit holder proposes to operate a small, battery-operated remotely piloted aircraft system (RPAS) consisting, in part, of a quadcopter equipped with a camera to collect commercial and educational footage of the Antarctic, as well as for ice reconnaissance. The quadcopter would not be flown over concentrations of birds or mammals, or over Antarctic Specially Protected Areas or Historic Sites and Monuments. The RPAS would only be operated by experienced pilots (≤20 hours). Several measures would be taken to prevent against loss of the quadcopter including a highly visible paint color; only operating when the wind is less than 15 knots; operating for only to within 70% of battery life; having prop guards on propeller tips; using a flotation device if operated over water; having an observer on the lookout for wildlife, people, and other hazards; and ensuring that the separation between the operator and quadcopter does not exceed visual contact. The applicant is seeking a Waste Permit to cover any accidental releases that may result from operating the RPAS.

Location: Antarctic Peninsula; For camping, possible locations include Dorian Cove, Enterprize Isand, Cuverville are/Errera Channel, Damoy Point/Dorian Bay, Danco Island, Rongé Island, Paradise Bay, Argentine Islands, Andvord bay, Pleneau Island, Hovgaard Island, Orne Harbour, Leith Cove, Prospect Point, Portal Point.

Dates of Permitted Activities: December 1, 2018-February 6, 2021.

Suzanne H. Plimpton,
Reports Clearance Officer, National Science Foundation.

[FR Doc. 2018-21125 Filed 9-27-18; 8:45 am]

BILLING CODE 7555-01-P